INTERNATIONAL TRADE COMMISSION

[Investigation Nos. 731-TA-1207-1208 (Final)]

Prestressed Concrete Steel Rail Tie Wire From China and Mexico

Determination

On the basis of the record ¹ developed in the subject investigations, the United States International Trade Commission (Commission) determines, pursuant to section 735(b) of the Tariff Act of 1930 (19 U.S.C. 1673d(b)) (the Act), that an industry in the United States is materially injured by reason of imports from China and Mexico of prestressed concrete steel rail tie wire, provided for in subheading 7217.10.80 of the Harmonized Tariff Schedule of the United States, that have been found by the Department of Commerce (Commerce) to be sold in the United States at less than fair value (LTFV).

¹ The record is defined in sec. 207.2(f) of the Commission's Rules of Practice and Procedure (19 CFR § 207.2(f)).

Background

The Commission instituted these investigations effective April 23, 2013, following receipt of petitions filed with the Commission and Commerce by Davis Wire Corp., Kent, Washington and Insteel Wire Products Co., Mount Airy, North Carolina. The final phase of the investigations were scheduled by the Commission following notification of a preliminary determination by Commerce that imports of prestressed concrete steel rail tie wire from China and Mexico were being sold at LTFV within the meaning of section 733(b) of the Act (19 U.S.C. 1673b(b)).² Notice of the scheduling of the final phase of the Commission's investigations and of a public hearing to be held in connection therewith was given by posting copies of the notice in the Office of the Secretary, U.S. International Trade Commission, Washington, DC, and by publishing the notice in the Federal Register of January 15, 2014 (79 FR 2693). The hearing was held in Washington, DC, on May 6, 2014, and all persons who requested the opportunity were permitted to appear in person or by counsel.

² Commerce made a preliminary determination of sales at not less than fair value with respect to imports from Thailand, 78 FR 75547, December 12, 2013. Subsequently, Commerce made a final determination of sales at not less than fair value with respect to imports from Thailand, 79 FR 25574, May 5, 2014. Effective May 5, 2014 the Commission terminated its investigation with respect to imports from Thailand, 79 FR 26775, May 9, 2014.

The Commission completed and filed its determinations in these investigations on June 12, 2014. The views of the Commission are contained in USITC Publication 4473 (June 2014), entitled Prestressed Concrete Steel Rail Tie Wire from China and Mexico: Investigation Nos. 731-TA-1207-1208 (Final).

By order of the Commission.
Issued: June 17, 2014.
Lisa R. Barton,
Secretary to the Commission.

[FR Doc. 2014-14510 Filed 6-20-14; 8:45 am]

BILLING CODE 7020-02-P